DEPARTMENT OF COMMERCE

National Oceanic and Atmospheric Administration

[I.D. 032204F]

North Pacific Fishery Management Council; Public Meeting

AGENCY: National Marine Fisheries Service (NMFS), National Oceanic and Atmospheric Administration (NOAA), Commerce.

ACTION: Notice of a public meeting.

SUMMARY: The North Pacific Fishery Management Council's (Council) Steller Sea Lion Mitigation Committee (SSLMC) will meet in Seattle, WA.

DATES: The meeting will be held April 26, 2004, from 9 a.m. to 5 p.m.

ADDRESSES: The meeting will be held at the Alaska Fisheries Science Center (AFSC), 7600 Sand Point Way NE, National Marine Mammal Lab Conference Room, Seattle, WA. The meeting can also be accessed by conference line at (907) 789-6622.

Council address: North Pacific Fishery Management Council, 605 W. 4th Ave., Suite 306, Anchorage, AK 99501-2252.

FOR FURTHER INFORMATION CONTACT: Bill Wilson, North Pacific Fishery Management Council; telephone: (907) 271-2809.

SUPPLEMENTARY INFORMATION: The meeting agenda includes the following topics:

1. Introductions and opening remarks;

2. Council motion on Aleut Corporation Aleutian Islands pollock fishery;

3. Update on the Environmental Assessment/Regulatory Impact Review (EA/RIR) on Aleut Corporation pollock fishery;

4. Industry proposals for Steller Sea Lion (SSL) protection measure changes in the Aleutian Islands;

5. NMFS position on Aleutian Island protection measures;

6. Update on AFSC fishery interaction studies, Aleutian Island SSL counts, and other related research;

7. Discussion and recommendations from SSLMC to the Council;

8. Future activities of the SSLMC; and

9. Action items, closing remarks.

Although non-emergency issues not contained in this agenda may come before this committee for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, 907-271-2809, at least 5 working days prior to the meeting date.

Dated: March 26,2004.
Alan D. Risenhoover,
Acting Director, Office of Sustainable Fisheries, National Marine Fisheries Service.

[FR Doc. 04-7249 Filed 3-30-04; 8:45 am]

BILLING CODE 3510-22-S